DEPARTMENT OF LABOR

Occupational Safety and Health Administration

29 CFR Part 1910

[Docket No. OSHA-2008-0046]

RIN 1218-AC33

Occupational Exposure to Diacetyl and Food Flavorings Containing Diacetyl

AGENCY: Occupational Safety and Health Administration (OSHA), Department of Labor.

ACTION: Advance Notice of Proposed Rulemaking; withdrawal.

SUMMARY: OSHA is withdrawing its Advance Notice of Proposed Rulemaking (ANPRM) on Occupational Exposure to Diacetyl and Food Flavorings Containing Diacetyl in order to facilitate convening a Small Business Advocacy Review Panel, pursuant to the Small Business Regulatory Enforcement Fairness Act (SBREFA). Materials submitted prior to this withdrawal as well as any other information submitted directly to OSHA after the withdrawal will be put in the public rulemaking docket and receive equal consideration as a part of the rulemaking record. In addition, there will be several other opportunities for stakeholders to provide information and comment during the rulemaking process.

DATES: The ANPRM on Occupational Exposure to Diacetyl and Food Flavorings Containing Diacetyl, published January 21, 2009 (74 FR 3938), is withdrawn, effective March 17, 2009.

SUPPLEMENTARY INFORMATION: On September 25, 2007, OSHA announced its intent to initiate rulemaking to address concerns regarding diacetyl exposure in the workplace pursuant to Section 6(b) of the Occupational Safety and Health Act of 1970 (29 U.S.C. 651, 655). The Agency hosted a stakeholder meeting on October 17, 2007, as part of its process to gather information for the rulemaking. The meeting addressed not only specific OSHA information requests, but also identified stakeholder concerns associated with developing a standard addressing occupational exposure to diacetyl and food flavorings containing diacetyl. OSHA also announced its intent to convene a Small Business Advocacy Review (SBAR) Panel, pursuant to the SBREFA, in the Department of Labor's Semiannual Regulatory Agenda (73 FR 71396, 71399, 11/24/2008). The SBREFA requires that, prior to publication of any proposed rule that has a significant economic impact on a substantial number of small entities, OSHA convene a SBAR Panel to determine the impacts of such a rule on small businesses and the ways those impacts can be reduced, consistent with the Agency's statutory requirements.

On January 21, 2009, OSHA published an ANPRM (74 FR 3938). The ANPRM sought information and comment on issues related to occupational exposure to diacetyl and food flavorings containing diacetyl, including current employee exposures; the relationship between exposure and the development of adverse health effects; methods to evaluate, monitor, and control exposure; and related topics.

OSHA is withdrawing the ANPRM in order to promptly convene a SBAR panel. Responses to the questions raised in the ANPRM, however, are still of interest to OSHA. Thus, such responses submitted prior to this withdrawal as well as any other information submitted directly to OSHA after this withdrawal will be included in the public rulemaking docket and receive equal consideration as a part of the overall rulemaking record. In addition, relevant materials received before the SBAR panel is formally convened will be considered as part of the SBREFA review process. For consideration in the SBREFA review, OSHA requests that such information be submitted within 10 business days of this notice. Commenters should be aware that upon withdrawal of this ANPRM they will no longer be able to use the http://www.regulations.gov portal for submitting comments. Information submitted informally to the Agency after withdrawal of this ANPRM should be sent to OSHA's Docket Office at the address/fax number indicated below. OSHA believes that withdrawing the ANPRM will not hinder the ability of the Agency to obtain information or limit stakeholders from providing information and comment during this rulemaking. OSHA recognizes the importance of gathering information and comment during the development of rules and stakeholders still have several avenues to provide input during the rulemaking process even though the ANPRM is being withdrawn.

For example, during the SBREFA process, small entity representatives (SERs) will review and comment on a draft proposed standard, alternatives to the draft proposal, and preliminary analyses of costs, benefits, and impacts of the draft proposal. At the same time OSHA provides these documents to the SERs, the Agency will include the documents in the public docket of this rulemaking (Docket No. OSHA-2008-0046), which is available for stakeholders to view and download. OSHA will hold meetings (open to the public) with the SERs to gather their input and will put their written comments in the public docket. Finally, OSHA will put the final SBAR Panel report in the public docket at the conclusion of the process. Throughout this process, interested parties who are not directly participating in the SBREFA process may nevertheless enter comments into the public docket for this rulemaking. Such comments will be considered by OSHA as part of the rulemaking. In addition, OSHA will formally request public comment when the Agency publishes a proposed rule in the Federal Register, and will hold public hearings at which stakeholders will be provided a further opportunity to provide additional information, make suggestions, and raise issues.

OSHA also intends to conduct expert peer reviews of the preliminary risk and feasibility assessments and will put the relevant documents in the public docket when a rule is proposed and open for public comment. In addition, OSHA has conducted and is continuing to conduct site visits at workplaces where exposures to diacetyl and food flavorings containing diacetyl may occur to collect information on processes utilizing diacetyl and the controls used to prevent or minimize employee exposures.

FOR FURTHER INFORMATION CONTACT:

Press Inquiries: Jennifer Ashley, OSHA, Office of Communications, Room N-3647, U.S. Department of Labor, 200 Constitution Avenue, NW., Washington, DC 20210; telephone: 202-693-1999.

General and Technical Information: David O'Connor, OSHA, Directorate of Standards and Guidance, Office of Chemical Hazards—Non-Metals, Room N-3718, U.S. Department of Labor, 200 Constitution Avenue, NW., Washington, DC 20210; telephone 202-693-2090.

Submission of Information and Comment: OSHA Docket Office, Room N-2625, U.S. Department of Labor, 200 Constitution Avenue, NW., Washington, DC 20210 (reference Docket No. OSHA-2008-0046); telephone 202-693-2350 or David O'Connor, OSHA, Directorate of Standards and Guidance, Office of Chemical Hazards—Non-Metals, Room N-3718, U.S. Department of Labor, 200 Constitution Avenue, NW., Washington, DC 20210; telephone 202-693-2090. If your comments, including attachments do not exceed 10 pages, you may fax them to the OSHA Docket Office at 202-693-1648.

Authority and Signature

This document was prepared under the direction of Donald G. Shalhoub, Deputy Assistant Secretary of Labor for Occupational Safety and Health, U.S. Department of Labor. It is issued pursuant to section 4, 6, and 8 of the Occupational Safety and Health Act of 1970 and Secretary of Labor's Order No. 5-2007 (72 FR 31160).

Signed at Washington, DC, this 11th day of March 2009.
Donald G. Shalhoub,
Deputy Assistant Secretary of Labor for Occupational Safety and Health.

[FR Doc. E9-5689 Filed 3-16-09; 8:45 am]

BILLING CODE 4510-26-P